DEPARTMENT OF JUSTICE

Notice of Lodging of Proposed Consent Decree Under the Clean Water Act

On July 11, 2016, the Department of Justice lodged a proposed Consent Decree with the United States District Court for the Southern District of Texas in the lawsuit entitled United States v. Sunoco Pipeline L.P., Civil Action No. 3:16-cv-00178.

The Complaint against Sunoco Pipeline L.P. (“Defendant”) alleges claims under sections 301 and 311 of the Clean Water Act, 33 U.S.C. 1311 and 1321, for two separate oil spills from Defendant's facilities into waters of the United States. The first discharge occurred between August 20 and August 26, 2009, at Defendant's Barbers Hill Station located near Mont Belvieu, Chambers County, Texas. The second discharge occurred on or about February 14, 2011, at Defendant's Cromwell Station located near Cromwell, Oklahoma. The Complaint seeks injunctive relief, pursuant to section 301(a) and 309(b) of the CWA, 33 U.S.C. 1311(a) and 1319(b), and civil penalties, pursuant to section 311(b) of the CWA, 33 U.S.C. 1321(b).

Under the proposed settlement, Sunoco will perform injunctive relief at its Barbers Hill Station, Cromwell Station, and 54 additional facilities that connect to Defendant's pipelines in Texas and Oklahoma and are otherwise similar to those facilities that experienced the spills. The proposed Consent Decree also requires Defendant to revise certain control room procedures and pay an $850,000 civil penalty to the United States.

The publication of this notice opens a period for public comment on the proposed Consent Decree. Comments should be addressed to the Assistant Attorney General, Environment and Natural Resources Division, and should refer to United States v. Sunoco Pipeline L.P., D.J. Ref. No. 90-5-1-1-10074. All comments must be submitted no later than thirty (30) days after the publication date of this notice. Comments may be submitted either by email or by mail:

To submit comments: | Send them to:
By email | pubcomment-ees.enrd@usdoj.gov
By mail | Assistant Attorney General, U.S. DOJ-ENRD, P.O. Box 7611, Washington, DC 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ-ENRD, P.O. Box 7611, Washington, DC 20044-7611.

Please enclose a check or money order for $14.00 (25 cents per page reproduction cost) payable to the United States Treasury. For a paper copy requested without the exhibits and signature pages, the cost is $11.00.

Jeffrey Sands,
Assistant Section Chief, Environmental Enforcement Section, Environment and Natural Resources Division.

[FR Doc. 2016-16885 Filed 7-15-16; 8:45 am]

BILLING CODE 4410-15-P